ARCTIC RESEARCH COMMISSION

[USARC 10-018]

92nd Meeting

February 16, 2010.

Notice is hereby given that the U.S. Arctic Research Commission will hold its 92nd meeting in Miami, FL, on March 15, 2010. The business session, open to the public, will convene at 8:30 a.m.

The Agenda items include:

(1) Call to order and approval of the agenda.

(2) Approval of the minutes from the 91st meeting.

(3) Commissioners and staff reports.

(4) Discussion and presentations concerning Arctic research activities.

The focus of the meeting will be reports and updates on programs and research projects affecting the Arctic.

Any person planning to attend this meeting, who requires special accessibility features and/or auxiliary aids, such as sign language interpreters, must inform the Commission of those needs in advance of the meeting.

Contact person for further information: John Farrell, Executive Director, U.S. Arctic Research Commission, 703-525-0111 or TDD 703-306-0090.

John Farrell,
Executive Director.

[FR Doc. 2010-4685 Filed 3-5-10; 8:45 am]

BILLING CODE 7555-01-M